DEPARTMENT OF COMMERCE

International Trade Administration

[A-583-837]

Polyethylene Terephthalate Film, Sheet, and Strip from Taiwan: Final Results of Antidumping Duty Administrative Review

AGENCY: Import Administration, International Trade Administration, Department of Commerce.

ACTION: Notice of final results of antidumping duty administrative review.

SUMMARY: On April 8, 2004, the Department of Commerce (“the Department”) published in the Federal Register the preliminary results of its administrative review of the antidumping duty order on polyethylene terephthalate film, sheet, and strip (“PET film”) from Taiwan. See Polyethylene Terephthalate Film, Sheet, and Strip from Taiwan: Preliminary Results of Antidumping Duty Administrative Review, 69 FR 18531 (April 8, 2004) (“Preliminary Results”). This review covers imports of subject merchandise exported to the United States by Nan Ya Plastics Corporation, Ltd. (“Nan Ya”) and Shinkong Synthetic Fibers Corporation (“Shinkong”), in accordance with 19 CFR 351.213. The period of review (“POR”) is December 21, 2001, through June 30, 2003. Based on our analysis of the comments received, we have made changes in the margin calculations for Nan Ya. We have no changes to the margin calculation in the preliminary results of review for Shinkong Synthetic Fibers Corporation, the other respondent in this administrative review. Therefore, the final results differ from the Preliminary Results. The final weighted-average dumping margins for the reviewed firms are listed below in the section entitled “Final Results of the Review.”

EFFECTIVE DATE: August 13, 2004.

FOR FURTHER INFORMATION CONTACT: Tom Martin or Zev Primor at (202) 482-3936 and (202) 482-4114, respectively; AD/CVD Enforcement Office IV, Import Administration, Room 1870, International Trade Administration, U.S. Department of Commerce, 14th Street and Constitution Avenue, NW., Washington, DC 20230.

SUPPLEMENTARY INFORMATION:

Background

The Department published in the Federal Register the preliminary results of its administrative review of the antidumping duty order on PET film from Taiwan, dated April 8, 2004. See Preliminary Results. The merchandise covered by this order is PET film from Taiwan, as described in the “Scope of the Review” section of this notice. We received written comments addressing our analysis on May 10, 2004, from Nan Ya, and separate comments from certain U.S. customers of Nan Ya that the Department deemed to be affiliated with Nan Ya in the Preliminary Results. We received a rebuttal brief from the petitioners ¹ on May 17, 2004.

¹ The petitioners in this review are DuPont Teijin Films, Mitsubishi Polyester Film of America and Toray Plastics (America), Inc. (collectively, the petitioners).

Scope of the Review

For purposes of this administrative review, the products covered are all gauges of raw, pretreated, or primed PET film, whether extruded or coextruded. Excluded are metallized films and other finished films that have had at least one of their surfaces modified by the application of a performance-enhancing resinous or inorganic layer more than 0.00001 inches thick. Imports of PET film are currently classifiable in the Harmonized Tariff Schedule of the United States (“HTSUS”) under item number 3920.62.00. HTSUS subheadings are provided for convenience and customs purposes. The written description of the scope of this proceeding is dispositive.

Analysis of Comments Received

All issues raised in the case and rebuttal briefs by parties to this administrative review are addressed in the “Issues and Decision Memorandum” from Jeff May, Deputy Assistant Secretary, Import Administration, Group I, to Joseph A. Spetrini, Acting Assistant Secretary for Import Administration, dated August 6, 2004, (“Issues and Decision Memorandum”), which is hereby adopted by this notice. A list of the issues which parties have raised and to which we have responded, all of which are in the Issues and Decision Memorandum, is attached to this notice as an Appendix. Parties can find a complete discussion of all issues raised in this review and the corresponding recommendations in this public memorandum which is on file in the Central Records Unit, Room B-099 of the main Department building. In addition, a complete version of the Issues and Decision Memorandum can be accessed directly on the Web at http://ia.ita.doc.gov/frn. The paper copy and electronic version of the Issues and Decision Memorandum are identical in content.

Changes Since the Preliminary Results

Based on our analysis of comments received, we have made changes in the margin calculations for Nan Ya. The changes to the margin calculations are listed below:

Nan Ya

• The Department revised its conversion of dollars per pound to dollars per kilogram for converting U.S. gross prices and their respective expenses. See Issues and Decision Memorandum, at Comment 6, below. See also Memorandum from Zev Primor and Thomas Martin to The File, “Calculation Memorandum for the Final Results of Review for Nan Ya Plastics Corporation, Ltd.,” dated August 8, 2004 (“Nan Ya Calculation Memorandum”), at 2.

• The Department has corrected minor discrepancies in the U.S. sales databases submitted by the U.S. customers that the Department has deemed to be affiliated with Nan Ya. See Nan Ya Calculation Memorandum, at 3.

Final Results of Review

We determine that the following weighted average percentage margins exist for the period December 21, 2001 through June 30, 2003.

Manufacturer/exporter | Margin (percent)
Nan Ya Plastics Corporation, Ltd. | 2.02
Shinkong Synthetic Fibers Corporation | 0.62

Assessment

The Department will determine, and U.S. Customs and Border Protection (“CBP”) will assess, antidumping duties on all appropriate entries. Pursuant to 19 CFR 351.212(b)(1), we calculated importer-, and where appropriate, customer-specific ad valorem duty assessment rates based on the ratio of the total amount of the dumping margins calculated for the examined sales to the total entered value of those same sales. For those sales where the respondent did not report actual entered value, we calculated importer-, and where appropriate, customer-specific assessment rates by aggregating the dumping margins calculated for the U.S. sales examined and dividing that amount by the total quantity of the sales examined. In accordance with 19 CFR 351.106(c)(2), we will instruct CBP to liquidate without regard to antidumping duties all entries of subject merchandise during the POR for which the importer-or customer-specific assessment rate is zero or de minimis (i.e., less than 0.50 percent). To determine whether the per-unit duty assessment rates are de minimis (i.e., less than 0.50 percent), in accordance with the requirement set forth in 19 CFR 351.106(c)(2), we calculated importer-or customer-specific ad valorem ratios based on export prices. The Department will issue appropriate assessment instructions directly to CBP within 15 days of publication of these final results of review.

Cash Deposit Requirements

The following deposit requirements will be effective upon publication of this notice of final results of administrative review for all shipments of PET film from Taiwan entered, or withdrawn from warehouse, for consumption on or after the date of publication, as provided by section 751(a)(1) of the Act: (1) The cash deposit rates for Nan Ya and Shinkong will be the rates shown above; (2) For previously reviewed or investigated companies not listed above, the cash deposit rate will continue to be the company-specific rate published for the most recent period; (3) If the exporter is not a firm covered in this review, a prior review, or the original less-than-fair-value (“LTFV”) investigation, but the manufacturer is, the cash deposit rate will be the rate established for the most recent period for the manufacturer of the merchandise; and (4) If neither the exporter nor the manufacturer is a firm covered in these or any previous reviews conducted by the Department, the cash deposit rate will be the “all others” rate established in the LTFV investigation, which is 2.56 percent. These deposit requirements shall remain in effect until publication of the final results of the next administrative review.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as the only reminder to parties subject to administrative protective orders (“APOs”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: August 6, 2004.
Joseph A. Spetrini,
Acting Assistant Secretary for Import Administration.

Appendix I—Issues in the Issues and Decision Memorandum

Comment 1: The Department should determine that certain of Nan Ya's U.S. customers are unaffiliated with Nan Ya.

Comment 2: Nan Ya's pricing to U.S. customers does not support a finding that certain U.S. customers are affiliated.

Comment 3: The Department cannot find affiliation between members of a family when there is no blood relationship.

Comment 4: The Department should grant Nan Ya a constructed export price (“CEP”) offset.

Comment 5: The Department should not double count profit on sales in the CEP profit calculation.

Comment 6: The Department should correct the margin calculation for ministerial errors.

[FR Doc. 04-18547 Filed 8-12-04 8:45 am]

BILLING CODE 3510-DS-P